DEPARTMENT OF DEFENSE

Defense Acquisition Regulations System

48 CFR Chapter 2

RIN 0750-AI46

Defense Federal Acquisition Regulation Supplement: Appendix F—Energy Receiving Reports (DFARS Case 2014-D024)

AGENCY: Defense Acquisition Regulations System, Department of Defense (DoD).

ACTION: Final rule.

SUMMARY: DoD is issuing a final rule amending the Defense Federal Acquisition Regulation Supplement (DFARS) to identify the Wide Area WorkFlow Energy Receiving Report as the electronic equivalent of the DD Form 250, Material Inspection and Receiving Report, for overland shipments and the DD Form 250-1, Tanker/Barge Material Inspection And Receiving Report, for waterborne shipments.

DATES: Effective May 26, 2015.

FOR FURTHER INFORMATION CONTACT: Jennifer Johnson, telephone 571-372-6176.

SUPPLEMENTARY INFORMATION:

I. Background

DoD published a proposed rule in the Federal Register at 79 FR 73539 on December 11, 2014, to amend Appendix F of the DFARS to identify the Wide Area WorkFlow (WAWF) Energy Receiving Report as the electronic equivalent of the paper DD Form 250 for overland shipments and the DD Form 250-1 for waterborne shipments. DFARS 232.7002, Policy, requires contractors to submit payment and receiving reports in electronic form, and the accepted electronic form identified in DFARS 232.7003, Procedures, is WAWF. In addition, the clause at DFARS 252.232-7003, Electronic Submission of Payment Requests and Receiving Reports, requires payment requests and receiving reports using WAWF in nearly all cases.

II. Discussion and Analysis

There were no public comments submitted in response to the proposed rule. No changes have been made from the proposed rule.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

IV. Regulatory Flexibility Act

A final regulatory flexibility analysis has been prepared consistent with the Regulatory Flexibility Act, 5 U.S.C. 601, et seq., and is summarized as follows:

This rule amends the Defense Federal Acquisition Regulation Supplement (DFARS) Appendix F to identify the Wide Area WorkFlow (WAWF) Energy Receiving Report as the electronic equivalent of the DD Form 250, Material Inspection and Receiving Report, for overland shipments and the DD Form 250-1, Tanker/Barge Material Inspection and Receiving Report, for waterborne shipments.

DFARS 232.7002, Policy, requires contractors to submit payment and receiving reports in electronic form, and the accepted electronic form is WAWF. DFARS 232.7003, Procedures, identifies WAWF as the accepted electronic form. In addition, the clause at DFARS 252.232-7003, Electronic Submission of Payment Requests and Receiving Reports, requires payment requests and receiving reports using WAWF in nearly all cases.

No comments were received from the public regarding the initial regulatory flexibility analysis.

DoD does not expect this rule to have a significant economic impact on a substantial number of small entities within the meaning of the Regulatory Flexibility Act, 5 U.S.C. 601, et seq. The rule affects all DoD contractors who are not exempt from using WAWF. Exempt classes of contracts are those that are listed under the seven categories of contracts at DFARS 232.7002, Policy.

The projected recordkeeping is limited to that required to properly record shipping and receiving information under Government contracts. Preparation of these records requires clerical and analytical skills to create the documents and input them into the electronic WAWF system.

There is no significant economic impact on small entities.

V. Paperwork Reduction Act

The rule contains information collection requirements that require the approval of the Office of Management and Budget under the Paperwork Reduction Act (44 U.S.C chapter 35). However, these changes to the DFARS do not impose additional information collection requirements to the paperwork burden previously approved under OMB Control Number 0704-0248, entitled Material Inspection and Receiving Report.

List of Subjects in 48 CFR Appendix F to Chapter 2

Government procurement.

Amy G. Williams,
Editor, Defense Acquisition Regulations System.

Therefore, 48 CFR chapter 2, subchapter I, is amended in appendix F as follows:

CHAPTER 2—DEFENSE ACQUISITION REGULATIONS SYSTEM, DEPARTMENT OF DEFENSE

1. The authority citation for appendix F to chapter 2 continues to read as follows:

Authority: 41 U.S.C. 1303 and 48 CFR chapter 1.

2. Amend appendix F to chapter 2 by:

a. In section F-101, revising paragraph (a) and the first sentence of paragraph (b);

b. In section F-103, revising paragraph (d) introductory text;

c. In section F-104, revising paragraph (b) introductory text;

d. Revising the part 3 heading; and

e. In section F-301, revising paragraph (b)(13).

The revisions read as follows:

Appendix F to Chapter 2—Material Inspection and Inspection and Receiving Report

* * * * *

Part 1—Introduction

F-101 General.

(a) This appendix contains procedures and instructions for the use, preparation, and distribution of the Wide Area WorkFlow (WAWF) Receiving Report, the WAWF Energy RR, and commercial shipping/packing lists used to document Government contract quality assurance. The WAWF RR is the electronic equivalent of the DD Form 250, Material Inspection and Receiving Report (MIRR). The WAWF Energy RR is the electronic equivalent of the DD Form 250 for overland shipments and DD Form 250-1, Tanker/Barge Material Inspection and Receiving Report, for waterborne shipments.

(b) The use of the DD Form 250 series documents is on an exception basis (see DFARS 232.7002(a)) because use of the WAWF RR is now required by most DoD contracts. * * *

* * * * *

F-103 Use.

* * * * *

(d) Use the WAWF Energy RR or the DD Form 250-1:

* * * * *

F-104 Application.

* * * * *

(b) WAWF Energy RR or the DD Form 250-1.

* * * * *

Part 3—Preparation of the Wide Area Workflow (WAWF) Receiving Report (RR) and WAWF Energy RR

F-301 Preparation instructions.

* * * * *

(b) * * *

(13) Marked for/code. Enter the code from the contract or shipping instructions. Only valid DoDAACs, MAPACs, or CAGE codes can be entered. Vendors should use the WAWF “Mark for Rep” and “Mark for Secondary” fields for textual marking information specified in the contract. Enter the three-character project code when provided in the contract or shipping instructions.

* * * * *

[FR Doc. 2015-12342 Filed 5-22-15; 8:45 am]

BILLING CODE 5001-06-P